FEDERAL ELECTION COMMISSION

Sunshine Act Meeting

Date and Time: Tuesday, December 5, 2000 at 10:00 a.m.

Place: 999 E Street, NW., Washington, DC.

Status: This Meeting Will Be closed to the Public.

Items To Be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

Date and Time: Thursday, December 7, 2000 at 10:00 a.m.

Place: 999 E Street, NW., Washington, DC (Ninth Floor)

Status: This Meeting Will Be Open to the Public.

Items To Be Discussed: Correction and Approval of Minutes. Draft Advisory Opinion 2000-34: SAPPI Fine Paper North America/S.D. Warren Company by counsel, Brett G. Kappel. Draft Advisory Opinion 2000-37: U.S. Representative Tom Udall. Administrative Matters.

Person to Contact for Information: Mr. Ron Harris, Press Officer, Telephone: (202) 694-1220.

Mary W. Dove,
Acting Secretary of Commission.

[FR Doc. 00-30643 Filed 11-28-00; 12:02 pm]

BILLING CODE 6715-01-M